DEPARTMENT OF THE INTERIOR

Bureau of Land Management

Colorado: Filing of Plats of Survey

March 29, 2007.

Summary: The plats of survey of the following described land will be officially filed in the Colorado State Office, Bureau of Land Management, Lakewood, Colorado, effective 10 a.m., March 29, 2007. All inquiries should be sent to the Colorado State Office (CO-956), Bureau of Land Management, 2850 Youngfield Street, Lakewood, Colorado 80215-7093.

The plat and field notes, of the dependent resurvey of the Colorado-New Mexico State Line (S. bdy.), the east and west boundaries, and the subdivisional lines of Township 32 North, Range 18 West, of the New Mexico Principal Meridian, Colorado, were accepted on November 15, 2006.

The plat which includes the field notes, and is the entire record of this Corrective Dependent Resurvey in Township 35 North, Range 16 West, New Mexico Principal Meridian, Colorado, was accepted on December 21, 2006. This survey was made as a result of an field error made during the dependent resurvey in 1985-86.

The plat, which includes the field notes, and is the entire record of this resurvey, in Section 33, Township 36 North, Range 11 West, New Mexico Principal Meridian, Colorado, was accepted on January 10, 2007.

The supplemental plat of Section 18, in Township 1 North, Range 78 West, Sixth Principal Meridian, Colorado, was accepted on January 23, 2007.

The plats (2) and field notes, of the dependent resurvey and surveys in Township 50 North, Range 9 West, New Mexico Principal Meridian, Colorado, were accepted on January 24, 2007.

The plat and field notes of the dependent resurvey and surveys in Township 37 North, Range 19 West, New Mexico Principal Meridian, Colorado were accepted on January 25, 2007.

The plat, which includes the field notes, and is the entire record of this survey, in Section 8, Township 32 North, Range 3 West, New Mexico Principal Meridian, Colorado was accepted on January 30, 2007.

The supplemental plat of Township 50 North, Range 18 West, New Mexico Principal Meridian, Colorado, was accepted on February 1, 2007. This supplemental plat, shows the result of the cancellation of certain mineral surveys in Sections 3, 4, 9, and 14.

The plat, which includes the field notes, and is the entire record of the location and remonumentation of certain original corners in, Township 7 North, Range 91 West, Sixth Principal Meridian, Colorado, was accepted on February 5, 2007.

The plats (2) which include the field notes, and are the entire record of the location and remonumentation of certain original corners in, Townships 8 North, Ranges 100 and 101 West, Sixth Principal Meridian, Colorado, were accepted on February 5, 2007.

The plats (4) and field notes, of the dependent resurveys and surveys, in Townships 5 and 6 North, Range 92 West, Sixth Principal Meridian, Colorado, were accepted on February 13, 2007.

The plat and field notes, of the dependent resurveys and surveys, of Sections 1 and 2, in Township 36 North, Range 6 West, New Mexico Principal Meridian, Colorado, were accepted on March 1, 2007.

The supplemental plat of Section 21, Township 41 North, Range 2 West, New Mexico Principal Meridian, Colorado, was accepted on March 7, 2007. This supplemental plat, shows the redesignation of lot 4 to regular aliquot parts and complies with the description shown in Patent No. 1133510.

The plats (2) and field notes, of the metes and bounds surveys of portions of the east boundary of the Great Sand Dunes National Preserve, in Township 25 South, Range 72 West, (Medano Pass) and Township 24 South, Range 73 West (Music Pass) of the Sixth Principal Meridian, Colorado, were accepted on March 15, 2007.

The plat and field notes, of the dependent resurvey and section subdivision of Sections 5, 8 and 20, Township 45 North, Range 5 East, New Mexico Principal Meridian, Colorado, was accepted on March 21, 2007.

Randall M. Zanon,
Chief Cadastral Surveyor for Colorado.

[FR Doc. E7-6417 Filed 4-5-07; 8:45 am]

BILLING CODE 4310-JB-P